Proclamation 8538 of June 18, 2010

World Refugee Day, 2010

By the President of the United States of America

A Proclamation

On World Refugee Day, we honor the contributions and resilience of those forced to flee from their homelands due to violence, persecution, or natural disasters. The hard-earned wisdom, diverse experiences, and unceasing courage of refugees enrich our Nation and strengthen our unique narrative—that America stands as a beacon of hope and opens our doors to those in need. Today, we celebrate the triumph of the human spirit exemplified by these displaced individuals, and acknowledge the compassion of those who welcome them into their homes and communities.

This year marks the 30th anniversary of the Refugee Act of 1980. This historic legislation championed by Senator Edward M. Kennedy created the current Federal Refugee Resettlement Program and codified into law the right to asylum for refugees. Through the Refugee Act and continued humanitarian aid, America’s leadership in international relief efforts and in defense of human rights has helped expand protections for countless refugees, internally displaced persons, and other victims around the world.

Some refugees face bleak prospects of returning to their native soil, and they must find security in peaceful areas. Many uprooted people have found safe haven in America, bringing with them determination and optimism to contribute to our cultural, economic, and intellectual fabric. Welcoming more refugee men, women, and children than any other country, the United States has provided a home to some of the world’s most vulnerable individuals, enriching our own country and advancing our leadership in the world.

Refugees face daunting challenges in an unfamiliar society with new rules, new resources, and often a new language. Yet, in spite of all they have faced—harrowing acts of violence or devastation, flight across borders in search of aid and shelter, uncertain and often prolonged stays in camps, and travel to a strange country—refugees are survivors. Living in the United States presents an opportunity to move forward, one that countless refugees from all over the globe have embraced. Their remarkable determination to rebuild a brighter future after great adversity embodies our Nation’s promise and spirit of boundless possibility.

On June 20, we recognize the past 30 years of refugee resettlement and protection in the United States as a demonstration of our overall efforts in support of people in need around the world. Recognizing the continuing challenges and barriers faced by refugees, my Administration has undertaken a comprehensive review of the United States Refugee Admissions Program, with the goal of strengthening support for refugees and those who assist them. This will build on the vital work of international organizations like the Office of the United Nations High Commissioner for Refugees, which provide emergency food, shelter, medical care, and other types of assistance to those uprooted by crisis. As we commemorate World Refugee Day, we recommit to ensuring that the blessings of liberty and opportunity are available to all who seek it.

NOW, THEREFORE, I, BARACK OBAMA, President of the United States of America, by virtue of the authority vested in me by the Constitution and the laws of the United States, do hereby proclaim June 20, 2010, as World Refugee Day. I call upon all the people of the United States to observe this day with appropriate programs, ceremonies, and activities.

IN WITNESS WHEREOF, I have hereunto set my hand this eighteenth day of June, in the year of our Lord two thousand ten, and of the Independence of the United States of America the two hundred and thirty-fourth.

[FR Doc. 2010-15404

Filed 6-22-10; 11:15 am]

Billing code 3195-W0-P